DEPARTMENT OF COMMERCE

National Oceanic and Atmospheric Administration

Science Advisory Board; Notice of Open Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday March 23, 2010, from 8:30 a.m. to 5:30 p.m. and Wednesday, March 24, 2010, from 8:45 a.m. to 3 p.m.. These times and the agenda topics described below are subject to change. Please refer to the web page http://www.sab.noaa.gov/Meetings/meetings.html for the most up-to-date meeting agenda.

Place: The meeting will be held both days at the Dupont Hotel, 1500 New Hampshire Avenue, Washington, DC 20036. Telephone: 202-483-6000. Please check the SAB Web site http://www.sab.noaa.gov for confirmation of the venue and for directions.

Status: The meeting will be open to public participation with a 30-minute public comment period on March 23 at 5 p.m. (check website to confirm time). The SAB expects that public statements presented at its meetings will not be repetitive of previously submitted verbal or written statements. In general, each individual or group making a verbal presentation will be limited to a total time of five (5) minutes. Written comments should be received in the SAB Executive Director's Office by March 16, 2010 to provide sufficient time for SAB review. Written comments received by the SAB Executive Director after March 16, 2010, will be distributed to the SAB, but may not be reviewed prior to the meeting date. Seats will be available on a first-come, first-served basis.

Matters to be Considered: The meeting will include the following topics: (1) Final Report from the Oceans and Health Working Group; (2) Recommendations from the Ecosystem Sciences and Management Working Group; (3) NOAA Response to the SAB Report on Social Sciences in NOAA; (4) NOAA Response to the SAB Report on Stakeholder Engagement; (5) NOAA Response to the SAB Recommendations on Ocean Acidification; (6) NOAA Integrated Weather Radar Plan and 2025 Vision; (7) An Update on the NOAA Hurricane Forecast Improvement Project; (8) Draft U.S. Integrated Ocean Observing System Road Map: Executive Overview; (9) NOAA Response to the SAB Climate Service Options Report and (10) NOAA Next Generation Strategic Plan.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov; or visit the NOAA SAB Website at http://www.sab.noaa.gov.

Dated: February 26, 2010.
Mark E. Brown,
Chief Financial Officer, Office of Oceanic and Atmospheric Research, National Oceanic and Atmospheric Administration.

[FR Doc. 2010-4522 Filed 3-3-10; 8:45 am]

BILLING CODE 3510-KD-P